DEPARTMENT OF ENERGY

Federal Energy Regulatory Commission

[Project No. 14648-000]

Owyhee Hydro, LLC; Notice of Preliminary Permit Application Accepted for Filing and Soliciting Comments, Motions To Intervene, and Competing Applications

On November 24, 2014, Owyhee Hydro, LLC (Owyhee Hydro) filed an application for preliminary permit, pursuant to section 4(f) of the Federal Power Act, proposing to study the feasibility of the Anderson Ranch Pumped Storage Hydroelectric Project (Anderson Ranch project). The project would be located at the U.S. Bureau of Reclamation's (Reclamation) Anderson Ranch dam and reservoir ¹ on the South Fork of the Boise River near Mountain Home in Elmore County, Idaho.

¹ On December 12, 2014, Cat Creek Energy, LLC also filed for a preliminary permit to use the Anderson Ranch reservoir as a lower reservoir for the Cat Creek Energy Generation Facility Pumped Storage Hydroelectric Project (P-14655), and thus may be competing for the same water resource.

The sole purpose of a preliminary permit, if issued, is to grant the permit holder priority to file a license application during the permit term. A preliminary permit does not authorize the permit holder to perform any land-disturbing activities or otherwise enter upon lands or waters owned by others without the owners' express permission.

On December 4, 2014, the Commission asked Reclamation to confirm that non-federal development is authorized at the Anderson Ranch site. On January 30, 2015, Reclamation responded stating that it retains jurisdiction over hydropower development at the Anderson Ranch dam, reservoir, and powerhouse, which are part of Reclamation's Boise Project. On June 8, 2015, the Commission responded and agreed with Reclamation's jurisdictional decision over hydropower development at the Boise Project's Anderson Ranch dam, powerhouse, and reservoir. However, the Commission would retain jurisdiction for hydropower facilities that would be located outside of Reclamation's development. Thus, an entity seeking to build a hydropower project that would use Reclamation's Boise Project facilities would need to obtain a lease of power privilege from Reclamation, but it also would need to obtain a license from the Commission for those facilities of the hydropower project that are not under Reclamation's jurisdiction.

On July 27, 2015, Owyhee Hydro filed a revised application providing an additional alternative to the proposed Anderson Ranch project. The revised Anderson Ranch project has three alternatives: Alternatives A, B, and C. Alternatives A and B would use the existing Anderson Ranch dam, reservoir, powerhouse, tailrace, and transmission lines, and would consist of the following new facilities: (1) A 1,060-foot-long, 65-foot-high zoned earth or concrete faced rockfill dam; (2) a 900-acre-foot impoundment as an upper reservoir; (3) a 4,180-foot-long, 9.1-foot-diameter single steel penstock (6.5-foot-diameter if twin conduit); (4) a single 80-megawatt (MW) reversible pump turbine/generator to be located within the third bay of the existing powerhouse; and (5) appurtenant facilities. Alternative C would use the existing Anderson Ranch dam, reservoir, and powerhouse, and would consist of the same new facilities as in Alternatives A and B except it would have: (1) A 4,180-foot-long, 9.1-foot-diameter single steel penstock (6.5-foot-diameter if twin conduit) and a 3,440-foot-long, 9.1-foot-diameter single steel penstock (6.5-foot-diameter if twin conduit); (2) a 250-foot-long, 90-foot-wide concrete powerhouse located adjacent to the existing Anderson Ranch reservoir; (3) a single 80-MW Pelton turbine/generator; and (4) a 3,400-foot-long, 69 or 115-kilovolt transmission line interconnecting with the existing Bonneville Power Administration Dixie Substation. The estimated annual generation for the Anderson Ranch project would be 175.2 gigawatt-hours.

Applicant Contact for the Anderson Ranch project: Mr. Matthew Shapiro, Owyhee Hydro, LLC, 1210 W. Franklin St., Ste. 2, Boise, ID 83702; phone: (208) 246-9925.

FERC Contact: Karen Sughrue; phone: (202) 502-8556.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14648-000.

More information about this project, including a copy of the application, can be viewed or printed on the “eLibrary” link of Commission's Web site at http://www.ferc.gov/docs-filing/elibrary.asp. Enter the docket number (P-14648) in the docket number field to access the document. For assistance, contact FERC Online Support.

Dated: August 28, 2015.
Kimberly D. Bose,
Secretary.

[FR Doc. 2015-21984 Filed 9-3-15; 8:45 am]

BILLING CODE 6717-0-1P